GENERAL SERVICES ADMINISTRATION

[Notice-PM-2015-02; Docket No. 2015-0002; Sequence No. 6]

Notice of Availability for the Final Environmental Impact Statement for the U.S. Department of State Foreign Affairs Security Training Center in Nottoway County, Virginia

AGENCY: General Services Administration (GSA).

ACTION: Notice of availability.

SUMMARY: Pursuant to the Council on Environmental Quality regulations implementing the procedural provisions of the National Environmental Policy Act, GSA has prepared and filed with the U.S. Environmental Protection Agency (EPA) a Final Environmental Impact Statement (EIS) for the proposed development of a U.S. Department of State (DOS), Bureau of Diplomatic Security (DS), Foreign Affairs Security Training Center (FASTC) in Nottoway County, Virginia. GSA is the lead agency; cooperating agencies are DOS, U.S. Army Corps of Engineers, EPA, and National Guard Bureau. The Final EIS also documents compliance with the National Historic Preservation Act (NHPA) of 1966.

DATES: The Final EIS is now available for review. The GSA Record of Decision will be released no sooner than 30 days after EPA publishes its Notice of Availability of the Final EIS in the Federal Register.

ADDRESSES: The Final EIS may be viewed online at http://www.state.gov/recovery/fastc. Paper copies may be viewed at the repositories listed under SUPPLEMENTARY INFORMATION.

FOR FURTHER INFORMATION CONTACT: Abigail Low, GSA Project Manager; 20 N 8th Street, Philadelphia, PA 19107; 215-446-4815; or email FASTC.info@gsa.gov.

SUPPLEMENTARY INFORMATION:

Background: The purpose of the proposed FASTC site in Nottoway County is to consolidate existing dispersed “hard skills” security training functions to provide effective, efficient training specifically designed to enable foreign affairs personnel to operate in today's perilous and dangerous overseas environment. Hard skills training is practical, hands-on training in firearms, explosives, anti-terrorism driving techniques, defensive tactics, and security operations. Such training improves security and life safety for the protection of U.S. personnel operating abroad. The proposed FASTC would fill a critical need, identified in the 2008 report to the U.S. Congress, for a consolidated training facility. A central facility would improve training efficiency and provide priority access to training venues from which DS may effectively conduct hard skills training to meet the increased demand for well-trained personnel. The proposed FASTC would train 8,000 to 10,000 students annually.

The Final EIS was prepared to evaluate the environmental consequences of site acquisition and development of FASTC on three adjacent land parcels at the Virginia Army National Guard Maneuver Training Center Fort Pickett (Fort Pickett) and Nottoway County's Local Redevelopment Authority (LRA) area in Nottoway County, Virginia.

The proposed site is 1,350 acres with an additional 12 acres for relocation of an existing tank trail and scheduled use of a 19 acre Fort Pickett range. The site is surrounded by compatible land uses within Fort Pickett. The total area of disturbance for construction of driving tracks, mock urban environments, explosives and firearms ranges, and administrative and service areas would be 407 acres. Utilities would be installed or relocated along existing roadways or within areas planned for development.

GSA published its Notice of Intent to prepare an EIS in the Federal Register at 76 FR 61360 on October 4, 2011. A public scoping meeting was held in October 2011 during the 30 day public scoping period. The Draft EIS was released on October 26, 2012, and a public information meeting was held on November 7, 2012 during the 45-day public comment period. The Draft EIS evaluated Build Alternatives 1 and 2 and the No Action Alternative.

In early 2013, all efforts and work on the proposed site at Fort Pickett and Nottoway County's LRA area were put on hold pending additional due diligence and reviews at an existing federal training site in Georgia. As part of this due diligence effort, DOS conducted site visits to the Federal Law Enforcement Training Center in Glynco, Georgia. During this time period, DOS also assessed the scope and size of the FASTC project and determined a smaller platform was more fiscally prudent. In April 2014, the earlier DOS selection of the proposed site for FASTC at Fort Pickett and Nottoway County was reaffirmed by the Administration. A Master Plan Update was prepared in 2014 to incorporate the adjustments in the FASTC program.

A Supplemental Draft EIS was published in the Federal Register at 80 FR 8311 on January 9, 2015, and a public information meeting was held January 26, 2015, during the 45-day public comment period. The Supplemental Draft EIS evaluated Build Alternative 3 and the No Action Alternative, and provided responses to public comments on the 2012 Draft EIS. Build Alternative 3 was developed based on the 2014 Master Plan Update. Build Alternatives 1 and 2 were no longer feasible because of changes in the program and were eliminated from further evaluation.

Current Efforts: The Final EIS designates Build Alternative 3 as the Preferred Alternative. Build Alternative 3 would have direct, indirect, and cumulative environmental impacts, but the impacts are reduced as compared with the 2012 build alternatives. Changes between the Supplemental Draft EIS and Final EIS include the results of consultation with the State Historic Preservation Officer as required by Section 106 of the NHPA, and updates on consultation with the U.S. Fish and Wildlife Service pertaining to effects on northern long-eared bats under Section 7 of the Endangered Species Act. Section 7 consultation will be concluded prior to the Record of Decision. The Final EIS also updates the proposed action to support emerging advanced tactical training needs and a change in the availability of existing facilities. The proposed action includes limited use of helicopters in training to approximately one or two days per month and the addition of an Ammunition Supply Point on the proposed site. The Final EIS addresses and responds to agency and public comments on the Supplemental Draft EIS.

The Final EIS has been distributed to various federal, state, and local agencies, and interested individuals. The Final EIS is available for review on the project Web site http://www.state.gov/recovery/fastc. Printed copies are available for viewing at the following libraries:

• Nottoway County Library—Louis Spencer Epes Memorial Library, 415 South Main St., Blackstone, VA.

• Amelia County—James L. Hamner Public Library, 16351 Dunn St., Amelia, VA.

• Brunswick County—Brunswick County Library, 133 W. Hicks St., Lawrenceville, VA.

• Dinwiddie County—Dinwiddie Library, 14103 Boydton Plank Road, Dinwiddie, VA.

• Lunenburg County—Ripberger Library, 117 South Broad St., Kenbridge, VA.

• Prince Edward County—Prince Edward Community Library, 1303 West 3rd St., Farmville, VA.

• Chesterfield County—Central Library, 9501 Lori Road, Chesterfield, VA.

• Mecklenburg County—Southside Regional Library, 1294 Jefferson St., Boydton, VA.

Dated: April 15, 2015.
Toby Tobin,
Director, Facilities Management & Services Programs Division, U.S. GSA, Mid-Atlantic Region.

[FR Doc. 2015-09461 Filed 4-23-15; 8:45 am]

BILLING CODE 6820-89-P